NATIONAL AERONAUTICS AND SPACE ADMINISTRATION

[Notice: (13-082)]

NASA Advisory Council; Human Exploration Operations Committee; Research Subcommittee; Meeting

AGENCY: National Aeronautics and Space Administration.

ACTION: Notice of meeting.

SUMMARY: In accordance with the Federal Advisory Committee Act, Public Law 92-462, as amended, the National Aeronautics and Space Administration (NASA) announces a meeting of the Research Subcommittee of the Human Exploration and Operations Committee (HEOC) of the NASA Advisory Council (NAC). This Subcommittee reports to the HEOC. The meeting will be held for the purpose of organizing the activities of the Subcommittee and fact-finding with respect to the research activities within the Human Exploration and Operations Mission Directorate.

DATES: Wednesday, July 31, 2013, 1:00 p.m. to 4:00 p.m., Local Time.

ADDRESSES: NASA Headquarters, Room 7S40A, 300 E Street SW., Washington, DC 20546.

FOR FURTHER INFORMATION CONTACT: Dr. Bradley Carpenter, Human Exploration and Operations Mission Directorate, NASA Headquarters, Washington, DC 20546, (202) 358-0826, or bcarpenter@nasa.gov.

SUPPLEMENTARY INFORMATION: The meeting will be open to the public up to the capacity of the room. This meeting is also available telephonically and by WebEx. Any interested person may call the USA toll free conference call number (877) 923-0445 or toll number (210) 453-5454, pass code 1310790, to participate in this meeting by telephone. The WebEx link is https://nasa.webex.com/, the meeting number is 994 358 451, and the password is July3!2013.

The agenda for the meeting includes the following topics:

—Advanced Exploration Systems Overview

—Human Research Program Activities

—Discussion of Future Subcommittee Activities

It is imperative that the meeting be held on these dates to accommodate the scheduling priorities of the key participants. Attendees will be requested to sign a register and to comply with NASA security requirements, including the presentation of a valid picture ID to Security before access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Dr. Bradley Carpenter via email at bcarpenter@nasa.gov or by fax at (202) 358-2886. U.S. citizens and Permanent Residents (green card holders) are requested to submit their name and affiliation 3 working days prior to the meeting to Dr. Carpenter.

Patricia D. Rausch,
Advisory Committee Management Officer, National Aeronautics and Space Administration.

[FR Doc. 2013-17109 Filed 7-16-13; 8:45 am]

BILLING CODE 7510-13-P